DEPARTMENT OF THE INTERIOR

National Park Service

[NPS-WASO-NAGPRA-15722; PPWOCRADN0-PCU00RP14.R50000]

Notice of Inventory Completion: Alutiiq Museum and Archaeological Repository, Kodiak, AK and the University of Alaska Museum of the North, Fairbanks, AK

AGENCY: National Park Service, Interior.

ACTION: Notice.

SUMMARY: The Alutiiq Museum and Archaeological Repository and the University of Alaska Museum of the North have completed an inventory of human remains, in consultation with the appropriate Indian tribes or Native Hawaiian organizations, and have determined that there is a cultural affiliation between the human remains and present-day Indian tribes or Native Hawaiian organizations. Lineal descendants or representatives of any Indian tribe or Native Hawaiian organization not identified in this notice that wish to request transfer of control of these human remains should submit a written request to the Alutiiq Museum and Archaeological Repository. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Alutiiq Museum and Archaeological Repository at the address in this notice by July 24, 2014.

ADDRESSES: Dr. Alisha Drabek, Executive Director, Alutiiq Museum and Archaeological Repository, 215 Mission Road, Suite 101, Kodiak, AK 99615, telephone (907) 486-7004.

SUPPLEMENTARY INFORMATION: Notice is here given in accordance with the Native American Graves Protection and Repatriation Act (NAGPRA), 25 U.S.C. 3003, of the completion of an inventory of human remains in the physical custody of the Alutiiq Museum and Archaeological Repository, Kodiak, AK, and under the control of the University of Alaska Museum of the North, Fairbanks, AK. The human remains were removed from the Blisky site (49-KOD-00210) on Near Island, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Alutiiq Museum and Archaeological Repository professional staff in consultation with representatives of the Tangirnaq Native Village (formerly Lesnoi Village (aka Woody Island)) and the Sun'aq Tribe of Kodiak (previously listed as the Shoonaq' Tribe of Kodiak).

History and Description of the Remains

In the spring of 1989, human remains representing, at minimum, one individual were removed from the Blisky site (49-KOD-00210) on Near Island in the northern Kodiak Archipelago by Dr. Richard Knecht during an archeological excavation. The human remains were stored at the Kodiak Area Native Association's Alutiiq Culture Center and, in 1995, the remains were transferred to the Alutiiq Museum and Archaeological Repository. The human remains consist of a humerus bone (accession # AM115). No known individuals were identified. No associated funerary objects are present.

The Blisky site is a prehistoric settlement on Near Island, one of a cluster of small islands that form the northeastern entrance to Chiniak Bay on northern Kodiak Island. The human remains came from midden deposits, most likely associated with the Koniag or Kachemak tradition. Many archeologists believe that the people of the Kachemak tradition are ancestral to the people of the Koniag tradition, who are in turn ancestral to contemporary Alutiiq people. Specifically, the human remains were removed from an area traditionally used by the Tangirnaq Native Village (formerly Lesnoi Village (aka Woody Island)) and the Sun'aq Tribe of Kodiak (previously listed as the Shoonaq' Tribe of Kodiak) people.

Determinations Made By the Alutiiq Museum and Archaeological Repository and the University of Alaska Museum of the North

Officials of the Alutiiq Museum and Archaeological Repository and the University of Alaska Museum of the North have determined that:

• Pursuant to 25 U.S.C. 3001(9), the human remains described in this notice represent the physical remains of one individual of Native American ancestry.

• Pursuant to 25 U.S.C. 3001(2), there is a relationship of shared group identity that can be reasonably traced between the Native American human remains and the Tangirnaq Native Village (formerly Lesnoi Village (aka Woody Island)) and the Sun'aq Tribe of Kodiak (previously listed as the Shoonaq' Tribe of Kodiak).

Additional Requestors and Disposition

Lineal descendants or representatives of any Indian tribe or Native Hawaiian organization not identified in this notice that wish to request transfer of control of these human remains should submit a written request with information in support of the request to Dr. Alisha Drabek, Executive Director, Alutiiq Museum and Archaeological Repository, 215 Mission Road, Suite 101, Kodiak, AK 99615, telephone (907) 486-7004, by July 24, 2014. After that date, if no additional requestors have come forward, transfer of control of the human remains to the Tangirnaq Native Village (formerly Lesnoi Village (aka Woody Island)) and the Sun'aq Tribe of Kodiak (previously listed as the Shoonaq' Tribe of Kodiak) may proceed.

The Alutiiq Museum and Archaeological Repository is responsible for notifying the Tangirnaq Native Village (formerly Lesnoi Village (aka Woody Island)) and the Sun'aq Tribe of Kodiak (previously listed as the Shoonaq' Tribe of Kodiak) that this notice has been published.

Dated: May 5, 2014.
David Tarler,
Acting Manager, National NAGPRA Program.

[FR Doc. 2014-14745 Filed 6-23-14; 8:45 am]

BILLING CODE 4312-50-P